DEPARTMENT OF STATE

[Public Notice 3513]

Bureau of Nonproliferation; Imposition of Missile Proliferation Sanctions Against Entities in Iran

AGENCY: Department of State.

ACTION: Notice.

SUMMARY: A determination has been made that entities in Iran have engaged in missile technology proliferation activities that require imposition of sanctions pursuant to the Arms Export Control Act, as amended, and the Export Administration Act of 1979, as amended (as carried out under Executive Order 12924 of August 19, 1994).

EFFECTIVE DATE: November 17, 2000.

FOR FURTHER INFORMATION CONTACT: Vann H. Van Diepen, Office of Chemical, Biological and Missile Nonproliferation, Bureau of Nonproliferation, Department of State (202-647-1142).

SUPPLEMENTARY INFORMATION: Pursuant to section 73(a)(1) of the Arms Export Control Act (22 U.S.C. 2797b(a)(1)); section 11B(b)(1) of the Export Administration Act of 1979 (50 U.S.C. app. 2401b(b)(1)), as carried out under Executive Order 12924 of August 19, 1994 (hereinafter cited as the “Export Administration Act of 1979”); and Executive Order 12851 of June 11, 1993; a determination was made on November 17, 2000, that the following foreign persons have engaged in missile technology proliferation activities that require the imposition of the sanctions described in section 73(a)(2)(B) of the Arms Export Control Act (22 U.S.C. 2797b(a)(2)(B)) and Section 11B(b)(1)(B)(ii) of the Export Administration Act of 1979 (50 U.S.C. app. 2410b(b)(1)(B)(ii) on the following entities:

1. Shahid Hemmat Industrial Group (SHIG) (Iran) and its sub-units and successors; and

2. SANAM Industrial Group (Iran) and its sub-units and successors.

Accordingly, the following sanctions are being imposed on these entities:

(A) new individual licenses for exports to the entities described above of items controlled pursuant to the Export Administration Act of 1979 will be denied for two years;

(B) new licenses for export to the entities described above of items controlled pursuant to the Arms Export Control Act will be denied for two years; and

(C) no new United States Government contracts involving the entities described above will be entered into for two years.

With respect to items controlled pursuant to the Export Administration Act of 1979, the export sanction only applies to exports made pursuant to individual export licenses.

These measures shall be implemented by the responsible agencies as provided in Executive Order 12851 of June 11, 1993.

Dated: December 4, 2000.
Robert J. Einhorn,
Assistant Secretary of State for Nonproliferation.

[FR Doc. 00-32312 Filed 12-18-00; 8:45 am]

BILLING CODE 4710-25-P